DEPARTMENT OF ENERGY

Federal Energy Regulatory Commission

[Docket No. CP07-52-000]

Downeast LNG, Inc.; Notice of Technical Conference

April 2, 2007.

On Wednesday, April 25, 2007, at 9 a.m. (EDT), staff of the Office of Energy Projects will convene a cryogenic design and technical conference regarding the proposed Downeast LNG import terminal. The cryogenic conference will be held at the Calais Motor Inn at 663 Main Street, Calais, Maine 04619. For Calais Motor Inn details call 1-800-439-5531.

The conference will review the design of the LNG storage tanks and facility, instrumentation and controls, hazard detection and controls, spill containment, geotechnical topics, and other issues related to the operation of the proposed facility. Issues related to environmental impacts and LNG vessel transit are outside the scope of the conference.

In view of the nature of critical energy infrastructure information and security issues to be explored, the cryogenic conference will not be open to the public. Attendance at this conference will be limited to existing parties to the proceeding (anyone who has specifically requested to intervene as a party) and to representatives of interested federal, state, and local agencies. Any person planning to attend the April 25th cryogenic conference must register by close of business on Thursday, April 19, 2007. Registrations may be submitted either online at http://www.ferc.gov/whats-new/registration/cryo-conf-form.asp or by faxing a copy of the form (found at the referenced online link) to 202-208-0353. All attendees must sign a non-disclosure statement prior to entering the conference. For additional information regarding the cryogenic conference, please contact Tejal Patel at 202-502-6037.

Philis J. Posey,
Acting Secretary.

[FR Doc. E7-6437 Filed 4-5-07; 8:45 am]

BILLING CODE 6717-01-P